DEPARTMENT OF COMMERCE

National Oceanic and Atmospheric Administration

RIN 0648-XF459

Mid-Atlantic Fishery Management Council (MAFMC); Public Meeting

AGENCY: National Marine Fisheries Service (NMFS), National Oceanic and Atmospheric Administration (NOAA), Commerce.

ACTION: Notice of a public meeting.

SUMMARY: The Mid-Atlantic Fishery Management Council's (MAFMC) Northeast Trawl Advisory Panel (NTAP) will hold a meeting.

DATES: The meeting will be held on Monday, June 12, 2017 from 9 a.m. to 5 p.m. For agenda details, see SUPPLEMENTARY INFORMATION.

ADDRESSES: The meeting will be held at the Downtown Providence Courtyard by Marriott, 32 Exchange Terrace, Providence, RI; telephone: (401) 272-1191.

Council address: Mid-Atlantic Fishery Management Council, 800 N. State Street, Suite 201, Dover, DE 19901; telephone: (302) 674-2331.

FOR FURTHER INFORMATION CONTACT: Christopher M. Moore, Ph.D., Executive Director, Mid-Atlantic Fishery Management Council; telephone: (302) 526-5255. The Council's Web site, www.mafmc.org will also have details on the proposed agenda and briefing materials.

SUPPLEMENTARY INFORMATION: The NTAP is a joint advisory panel of the Mid-Atlantic and New England Fishery Management Councils composed of Council members, fishing industry, academic, and government and non-government fisheries experts. The NTAP was established to bring commercial fishing, fisheries science, and fishery management professionals in the northeastern US together to identify concerns about regional research survey performance and data, to identify methods to address or mitigate these concerns, and to promote mutual understanding and acceptance of the results of this work among their peers and in the broader community.

Topics to be discussed by the NTAP include: Identify approaches to address or mitigate concerns about regional research survey performance and data; review of NEFSC WG Meeting and identify next steps; review previous work and discuss analyses and outputs; discuss plans for specific application in Yellowtail Flounder TRAC assessment; discuss use of time during 2018 on industry vessels (F/Vs Nobska and Karen Elizabeth); review NTAP's participation on one day Bigelow trips; discuss timing of next meeting and review actions identified.

Special Accommodations

These meetings are physically accessible to people with disabilities. Requests for sign language interpretation or other auxiliary aid should be directed to M. Jan Saunders, (302) 526-5251, at least 5 days prior to the meeting date.

Dated: May 22, 2017.
Tracey L. Thompson,
Acting Deputy Director, Office of Sustainable Fisheries, National Marine Fisheries Service.

[FR Doc. 2017-10799 Filed 5-25-17; 8:45 am]

BILLING CODE 3510-22-P